DEPARTMENT OF ENERGY

Federal Energy Regulatory Commission

[Docket No. EL19-81-000]

Nevada Hydro Company, Inc. v. California Independent System Operator Corporation; Notice of Complaint

Take notice that on June 17, 2019, pursuant to section 206 of the Federal Power Act 16 U.S.C. 824e and Rule 206 of the Federal Energy Regulatory Commission's (Commission) Rules of Practice and Procedure, 18 CFR 385.206, Nevada Hydro Company, Inc. (Complainant), filed a formal complaint against California Independent System Operator Corporation (CAISO or Respondent) alleging that CAISO failed to follow its Tariff and otherwise failed to perform a just and reasonable, open, transparent, comparable and not unduly discriminatory study of Lake Elsinore Advanced Pumped Storage project and also order CAISO to correct its modeling errors and produce new results using the data it already has, all as more fully explained in the complaint.

Complainant certifies that copies of the Complaint were served on Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondents' answers and all interventions, or protests must be filed on or before the comment date. The Respondents' answers, motions to intervene, and protests must be served on the Complainant.

The Commission encourages electronic submissions of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on July 8, 2019.

Dated: June 18, 2019.
Nathaniel J. Davis, Sr.,
Deputy Secretary.

[FR Doc. 2019-13343 Filed 6-21-19; 8:45 am]

BILLING CODE 6717-01-P